DEPARTMENT OF THE INTERIOR

Fish and Wildlife Service

[FWS-R8-ES-2009-N0088; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before June 1, 2009.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-208907

Applicant: Thomas Juhasz, Pasadena, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-147553

Applicant: Jeffrey J. Mitchell, San Francisco, California.

The applicant requests an amendment to an existing permit (April 9, 2007, 72 FR 17576) to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-210233

Applicant: Leslie L. Koenig, Livermore, California.

The permittee requests a permit to take (harass by survey, capture, handle, and release) the California tiger salamander (Ambystoma californiense) in conjunction with surveys throughout the range of the species in California for the purpose of enhancing its survival.

Permit No. TE-210229

Applicant: Katherine J. Pettigrew, Santee, California.

The applicant requests a permit to take (harass by survey) the southwestern willow flycatcher (Empidonax trailli extimus), and take (survey by pursuit) the Quino checkerspot butterfly (Euphydryas editha quino) in conjunction with surveys throughout the range of each species within the jurisdiction of the Carlsbad Fish and Wildlife Office, in California, for the purpose of enhancing its survival.

Permit No. TE-210235

Applicant: Matthew McDonald, Idylwild, California.

The applicant requests a permit to take (harass by survey) the southwestern willow flycatcher (Empidonax trailli extimus) in conjunction with surveys throughout the range of the species within the jurisdiction of the San Jacinto Ranger District of the San Bernardino National Forest, Riverside County, California, for the purpose of enhancing its survival.

Permit No. TE-807078

Applicant: Point Reyes Bird Observatory, Petaluma, California.

The permittee requests an amendment to an existing permit (January 5, 2001, 66 FR 1150), in order to extend the geographic area and take (survey, locate, monitor nests, capture, measure, band, and release) the California least tern (Sterna antilluarum browni) in conjunction with monitoring throughout the range of the species in Ventura, Los Angeles, Orange, and San Diego Counties, California, and to extend the geographic area and take (capture, measure, band and release) the northern spotted owl (Strix occidentalis caurina) in conjunction with monitoring throughout the range of the species in Sonoma, Mendocino, and Lake Counties, California, for the purpose of enhancing their survival.

Permit No. TE-146039

Applicant: Hildegarde N. Spautz, El Ceritto, California.

The applicant requests an amendment to an existing permit (April 9, 2007, 72 FR 17576) to take (harass by survey, capture, handle and release) the California tiger salamander (Ambystoma californiense) in conjunction with surveys throughout the range of the species in California for the purpose of enhancing its survival.

Permit No. TE-211099

Applicant: Kenneth A. Glass, Oakhurst, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-212445

Applicant: Robert A. Schell, San Rafael, California.

The applicant requests a permit to take (harass by survey, capture, handle and release) the California tiger salamander (Ambystoma californiense); and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of the species in California for the purpose of enhancing its survival.

We invite public review and comment on each of these recovery permit applications. Comments and materials we receive will be available for public inspection, by appointment, during normal business hours at the address listed in the ADDRESSES section of this notice.

Dated: April 22, 2009.
Diane Elam,
Acting Regional Director, Region 8, Sacramento, California.

[FR Doc. E9-9723 Filed 4-30-09; 8:45 am]

BILLING CODE 4310-55-P